DEPARTMENT OF TRANSPORTATION

Federal Aviation Administration

Office of Commercial Space Transportation; Notice of Availability and Request for Comment on the Environmental Assessment (EA) for the Jacksonville Aviation Authority (JAA) Launch Site Operator License at Cecil Field, Florida (FL)

AGENCY: Federal Aviation Administration (FAA), Department of Transportation.

ACTION: Notice of availability, notice of public meeting, and request for comment.

SUMMARY: In accordance with the National Environmental Policy Act of 1969, as amended ((NEPA) 42 U.S.C. 4321 et seq.), Council on Environmental Quality NEPA implementing regulations (40 CFR Parts 1500-1508), and FAA Order 1050.1E, Change 1, the FAA is announcing the availability of and requesting comments on the EA for the Jacksonville Aviation Authority (JAA) Launch Site Operator License at Cecil Field, FL.

The EA was prepared in response to an application for a Launch Site Operator License from the JAA. Under the Proposed Action, the FAA would issue a Launch Site Operator License to JAA to operate a facility for horizontal launches and landings of suborbital manned reusable launch vehicles (RLVs). These vehicles, when operated out of Cecil Field, could carry space flight participants, scientific experiments, or payloads. The proposed launch site is located within the city limits of the City of Jacksonville, FL in Duval County, approximately 15 miles southwest of downtown Jacksonville. The EA addresses the potential environmental impacts of issuing a Launch Site Operator License for the Proposed Action and the No Action Alternative.

The FAA has posted the EA on the FAA/AST Web site at http://ast.faa.gov. In addition, CDs of the EA were sent to persons and agencies on the distribution list (found in Chapter 7 of the EA). A paper copy and a CD version of the EA may be reviewed for comment during regular business hours at the following locations:

Jacksonville Public Library—Argyle Branch, 7973 Old Middleburg Road South, Jacksonville, FL 32222.

Jacksonville Public Library—Webb Wesconnett Regional, 6887 103rd Street, Jacksonville, FL 32210.

Jacksonville Public Library—West Regional, 1425 Chaffee Road South, Jacksonville, FL 32221.

Jacksonville Public Library—Main Branch, 303 N Laura St., Jacksonville, FL 32202.

Green Cove Springs Library, 403 Ferris St., Green Cove Springs, FL 32043.

DATES: The public comment period for the Draft EA begins with the publication of this NOA. To ensure that all comments can be addressed in the Final EA, comments on the draft must be received by the FAA no later than May 20, 2009.

The FAA is holding a public hearing on the Draft EA. The public hearing will be held on May 14, 2009 from 6 to 9 p.m. at the Cecil Commerce Center, 13561 Lake Newman St., Jacksonville, FL. Meeting registration and a general poster session will occur from 6 to 6:30 p.m. The FAA will present information about the Draft EA and licensing process at 6:30 p.m. followed by a public comment period in which members of the public will be provided the opportunity to provide both written and oral comments on the Draft EA. A court reporter will transcribe the oral comments.

ADDRESSES: Comments regarding the EA should be mailed to FAA Cecil Field EA, c/o ICF International, 9300 Lee Highway, Fairfax, VA, 22031. Comments can also be sent by e-mail to CecilField@icfi.com or fax to (703) 934-3951.

ADDITIONAL INFORMATION: Under the Proposed Action, the FAA would issue a Launch Site Operator License to JAA that would allow them to operate Cecil Field for horizontal suborbital RLV launches. JAA has identified two types of horizontally launched RLVs, Concept X and Concept Z, which are considered typical vehicles that would be launched from Cecil Field. The RLVs would launch and land on Runway 18L-36R, the primary north-south runway at Cecil Field. Both proposed RLVs would take-off from Cecil Field under jet power. Rocket operations would occur in a designated offshore area, approximately 60 miles east of the Florida coast. The RLVs would return to Cecil Field as maneuverable gliders.

JAA proposes to use Cecil Field's existing infrastructure, such as hangars, control tower, and runways for commercial space launch operations. Therefore, JAA does not anticipate new construction activities at Cecil Field related to the proposed spaceport.

The activities analyzed under the Proposed Action that would support, either directly or indirectly, licensed launches include:

• Transporting the vehicle, vehicle components, and propellants to Cecil Field via road, rail, air, or a combination of these methods.

• Assembling the various vehicle components.

• Conducting checkout activities.

• Loading the propellants into the launch vehicle.

• Loading the pilot, passengers, and other payload.

• Towing or moving the launch vehicle to the proper launch or takeoff location.

• Departing Cecil Field as an aircraft.

• Igniting the rocket engines once the vehicle has reached a designated area over the Atlantic Ocean.

• Collecting any debris from the runway prior to vehicle landing.

• Recovering and transporting the launch vehicle from the runway after landing.

The only alternative to the Proposed Action analyzed in the EA is the No Action Alternative. Under this alternative, the FAA would not issue a Launch Site Operator License to JAA, and there would be no commercial space launches from Cecil Field. The site would continue to be available for existing general aviation and training-related activities.

Resource areas were considered to provide a context for understanding and assessing the potential environmental effects of the Proposed Action, with attention focused on key issues. The resource areas considered included climate and air quality; coastal resources; compatible land use; Department of Transportation Act: Section 4(f) resources; farmlands; fish, wildlife, and plants; floodplains; hazardous materials, pollution prevention, and solid waste; historical, architectural, archaeological, and cultural resources; light emissions and visual resources; natural resources, energy supply, and sustainable design; noise; socioeconomics; water quality; wetlands; wild and scenic rivers; children's environmental health and safety risks; environmental justice; construction impacts; secondary (induced) impacts; airports/airport users; airspace; transportation; and cumulative impacts.

FOR FURTHER INFORMATION CONTACT: Stacey M. Zee (AST-100), Office of Commercial Space Transportation, 800 Independence Avenue, SW., Room 331, Washington, DC 20591, telephone (202) 267-9305; E-mail stacey.zee@faa.gov.

Issued in Washington, DC on: April 15, 2009.
Michael McElligott,
Manager, Space Systems Development Division.

[FR Doc. E9-9142 Filed 4-20-09; 8:45 am]

BILLING CODE 4310-13-P